FEDERAL MARITIME COMMISSION

Ocean Transportation Intermediary License Reissuances

The Commission gives notice that the following Ocean Transportation Intermediary license has been reissued pursuant to section 19 of the Shipping Act of 1984 (46 U.S.C. 40101).

License No.: 003009F.

Name: Super Freight International, Inc.

Address: 650 N. Edgewood Avenue, Wood Dale, IL 60191.

Date Reissued: October 4, 2013.

Sandra L. Kusumoto,
Director, Bureau of Certification and Licensing.

[FR Doc. 2013-29532 Filed 12-10-13; 8:45 am]

BILLING CODE 6730-01-P